SECURITIES AND EXCHANGE COMMISSION

[File No. 500-1]

True Product ID, Inc.; Order of Suspension of Trading

June 5, 2012.

It appears to the Securities and Exchange Commission that there is a lack of current and accurate information concerning the securities of True Product ID, Inc. (“True Product”) because it has not filed a periodic report since it filed its Form 10-Q for the period ending March 31, 2009, filed on May 20, 2009.

The Commission is of the opinion that the public interest and the protection of investors require a suspension of trading in the securities of True Product. Therefore, it is ordered, pursuant to Section 12(k) of the Securities Exchange Act of 1934, that trading in the securities of True Product is suspended for the period from 9:30 a.m. EDT on June 5, 2012, through 11:59 p.m. EDT on June 18, 2012.

By the Commission.
Jill M. Peterson,
Assistant Secretary.

[FR Doc. 2012-13932 Filed 6-5-12; 4:15 pm]

BILLING CODE 8011-01-P